DEPARTMENT OF JUSTICE

Bureau of Prisons

28 CFR Part 541

[Docket No. BOP-1118-F]

RIN 1120-AB18

Inmate Discipline Program/Special Housing Units: Subpart Revision and Clarification

AGENCY: Bureau of Prisons, Justice.

ACTION: Final rule; delay of effective date.

SUMMARY: In this document, the Bureau of Prisons delays the effective date of the final rule that appeared in the Federal Register on December 8, 2010, (75 FR 76263) and the subsequent correction which appeared in the Federal Register on December 29, 2010 (75 FR 81853). The new effective date for both documents is June 20, 2011.

DATES: Effective March 1, 2011, the effective date of the final rule published December 8, 2010 (75 FR 76263) and correction document published December 29, 2010 (75 FR 81853) is delayed to June 20, 2011.

FOR FURTHER INFORMATION CONTACT: Sarah Qureshi, Office of General Counsel, Bureau of Prisons, phone (202) 307-2105.

SUPPLEMENTARY INFORMATION: In this document, the Bureau of Prisons delays the effective date of the final rule that appeared in the Federal Register on December 8, 2010, (75 FR 76263) and the subsequent correction which appeared in the Federal Register on December 29, 2010 (75 FR 81853). The new effective date for both documents is June 20, 2011.

The first document issued a final rule amending the Bureau's Inmate Discipline Program and Special Housing Units (SHU) regulations (28 CFR part 541, subpart A and subpart B), and the second document corrected typographical and numbering errors, but made no substantive changes to the final rule.

Previously, both the final rule and the correction document had an effective date of March 1, 2011. We now delay the effective date of both the final rule and the correction document until June 20, 2011.

Helen Marberry,
Acting Director, Federal Bureau of Prisons.

[FR Doc. 2011-4359 Filed 2-28-11; 8:45 am]

BILLING CODE P